DEPARTMENT OF COMMERCE

International Trade Administration

Overseas Trade Missions; Private Sector Participants Recruitment and Selection

AGENCY: International Trade Administration, Department of Commerce.

ACTION: Notice.

SUMMARY: The Department of Commerce invites U.S. companies to participate in the below listed overseas trade missions.

SUPPLEMENTARY INFORMATION: For a more complete description of each trade mission, obtain a copy of the mission statement from the Project Officer, Beth Moser for each mission below. Recruitment and selection of private sector participants for these missions will be conducted according to the Statement of Policy Governing Department of Commerce Overseas Trade Missions dated March 3, 1997.

2nd Annual U.S. Information Technology Dealmaker, Toronto, Canada, February 8-9, 2001. Recruitment closes January 5, 2001.

Electrical Power Trade Mission & Seminar, Toronto, Canada, April 2-3, 2001, Recruitment closes February 15, 2001.

CanAm E-Commerce Partnering @ Vancouver, Vancouver, Canada, February 15-16, 2001, Recruitment closes January 2, 2001.

FOR FURTHER INFORMATION CONTACT: Ms. Beth Moser, U.S. Department of Commerce Tel: 202-482-2736, Fax: 202-219-9207, E-Mail: beth moser@mail.doc.gov

Dated: December 19, 2000.
Beth Moser,
International Trade Specialist, U.S. Commercial Service, U.S. Department of Commerce.

[FR Doc. 00-32769 Filed 12-21-00; 8:45 am]

BILLING CODE 3510-FP-P